NATIONAL SCIENCE FOUNDATION

National Artificial Intelligence Research Resource Task Force; Notice of Meeting

In accordance with the Federal Advisory Committee Act (Pub. L. 92-463, as amended), the National Science Foundation (NSF) announces the following meeting:

Name and Committee Code: National Artificial Intelligence Research Resource Task Force (84629) (Virtual).

Date and Time: December 13, 2021, 11:00 a.m. to 5:00 p.m. EDT.

Place: NSF, 2415 Eisenhower Avenue, Alexandria, VA 22314; Virtual meeting.

To attend the virtual meeting, please send your request for the virtual meeting link to the following email: cmessam@nsf.gov.

Type of Meeting: Open.

Contact Person: Brenda Williams, National Science Foundation, 2415 Eisenhower Avenue, Alexandria, VA 22314; Telephone: 703-292-8900; email: bwilliam@nsf.gov.

Purpose of Meeting: The Task Force shall investigate the feasibility and advisability of establishing and sustaining a National Artificial Intelligence Research Resource; and propose a roadmap detailing how such resource should be established and sustained.

Agenda: In this meeting, the Task Force will receive readouts from working group discussions held on the topics of priority capabilities for inclusion in a National AI Research Resource, including data resources, user tools and resources, and testing or testbed resources. The Task Force will discuss associated requirements for the resource in terms of security and access controls; and privacy, civil rights, and civil liberties.

Dated: August 5, 2021.
Crystal Robinson,
Committee Management Officer.

[FR Doc. 2021-16981 Filed 8-9-21; 8:45 am]

BILLING CODE 7555-01-P